DEPARTMENT OF HEALTH AND HUMAN SERVICES

[Document Identifier: OS-0990-0371; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of SAMHSA Primary and Behavioral Health Care Integration Grant Program.—Revision—OMB No. 0990-0371—Assistant Secretary for Planning and Evaluation.

Abstract: The Assistant Secretary for Planning and Evaluation (ASPE) and the Substance Abuse and Mental Health Services Administration are funding an independent evaluation of the Substance Abuse and Mental Health Services Administration/Center for Mental Health Services' (SAMHSA/CMHS) Primary and Behavioral Health Care Integration (PBHCI) grant program. Four-year PBHCI grants for up to $500,000 per year were awarded to thirteen grantees on September 30, 2009. A second group of nine grants and a third group of 34 grants were awarded September 30, 2010, for a total of 56 grants. The purpose of the PBHCI program is to improve the overall wellness and physical health status of people with serious mental illnesses (SMI), including individuals with co-occurring substance use disorders, by supporting communities to coordinate and integrate primary care services into publicly-funded community mental health and other community-based behavioral health settings. The information collected through the 3 year evaluation will assist SAMHSA in assessing whether integrated primary care services produce improvements in the physical and mental health of the SMI population receiving services from community-based behavioral health agencies. Data will be collected from grantee staff at all sites and from clients at up to 10 sites (client exam/survey). An Emergency Clearance Request covering the first six months of data collection starting February 15, 2011 and ending August 14, 2011 was approved February 15, 2011. This submission will cover data collection for the period starting August 15, 2011 and ending October 1, 2013.

Estimated Annualized Burden Table
Type of respondent | Instrument name | No. of respondents | No. responses per respondent | Average burden per response (in hours) | Total burden hours
Grantee Data Staff | Individual Service Utilization Data | 56 | 4 | 8 | 1,792
Grantee Data Staff | TRAC Indicators | 56 | 1,000 | 5/60 | 4,667
Grantee Project Directors | Quarterly Reports | 56 | 4 | 2 | 448
SMI Clients | Client Exam and Survey-Baseline | 1,000 | 1 | 45/60 | 750
SMI Clients | Client Exam and Survey-Follow-up | 1,667 | 1 | 45/60 | 1,250
Grantee Leadership | Site Visit Interview | 40 | 1 | 2 | 80
Grantee MH Providers | Site Visit Interview | 40 | 1 | 1 | 40
Grantee PH Providers | Site Visit Interview | 40 | 1 | 1.5 | 60
Grantee Care Coordinators | Site Visit Interview | 20 | 1 | 1.5 | 30
Control Site Leadership | Site Visit Interview | 50 | 1 | 2 | 100
Grantee Key Staff | Web Survey | 560 | 1 | 1.5 | 840
Total |  |  |  |  | 10,057

Mary Forbes,
Office of the Secretary, Paperwork Reduction Act Clearance Officer.

[FR Doc. 2011-17398 Filed 7-11-11; 8:45 am]

BILLING CODE 4150-05-P